DEPARTMENT OF HEALTH AND HUMAN SERVICES

Centers for Disease Control and Prevention

[60-Day-12-0822]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Intimate Partner and Sexual Violence Surveillance System (0920-0822, Expiration 11/30/2013)—Revision—National Center for Injury Prevention and Control (NCIPC), Centers for Disease Control and Prevention (CDC).

Background and Brief Description

The health burden of Intimate Partner Violence (IPV), Sexual Violence (SV) and stalking are substantial. In 2010, the National Intimate Partner and Sexual Violence Surveillance System (NISVSS) reported that approximately 6.9 million women and 5.6 million men experienced rape, physical violence and/or stalking by an intimate partner within the last year. The health care costs of IPV exceed $5.8 billion each year, nearly $3.9 billion of which is for direct medical and mental health care services.

Sexual violence also has a profound and long-term impact on the physical and mental health of the victim. Existing estimates of lifetime experiences of rape range from 15% to 36% for females. Sexual violence against men, although less prevalent, is also a public health problem; approximately, 1 in 5 women and 1 in 71 men have experienced attempted, completed or alcohol or drug facilitated rape at some point in their lifetime. Nearly 1.3 million women reported being raped in the past 12 months. Nearly 1 in 3 women and 1 in 10 men in the United States have experienced rape, physical violence and/or stalking by an intimate partner and reported at least one impact related to experiencing these or other forms of violent behavior within the relationship (e.g., being fearful, concerned for safety, post-traumatic stress disorder (PTSD) symptoms, need for health care, injury, contacting a crisis hotline, need for housing services, need for victim's advocate services, need for legal services, missed at least one day of work or school).

NISVSS 2010 data indicates that approximately 5 million women and 1.4 million men in the United States are stalked in the 12 months prior to the survey. There are overlaps between stalking and other forms of violence in intimate relationships; approximately 14% of females who were stalked by an intimate partner in their lifetime also experienced physical violence by an intimate partner; while 12% of female victims experienced rape, physical violence and stalking by a current or former intimate partner in their lifetime. Furthermore, 76% of female victims of intimate partner homicides were stalked by their partners before they were killed.

In order to address this important public health problem, CDC implemented, beginning in 2010, the National Intimate Partner and Sexual Violence Surveillance System that produces national and state level estimates of IPV, SV and Stalking on an annual basis. In 2010, a total of 16,507 completed interviews were conducted among English and/or Spanish speaking male and female adults (18 years and older) living in the United States.

CDC proposes a revision to the currently approved data collection instrument, by conducting a one-year pilot study using a newly revised instrument during the calendar year of 2013. The changes to the instrument are twofold: First, the current NISVSS survey instrument has been shortened in efforts to develop a core instrument that will be administered on an annual basis. Second, topic specific modules contain questions to produce data that are needed on a regular basis but are not needed annually. Each individual topic specific modules will be administered in addition to the core survey on a revolving annual schedule. The goals of the revised data collection instrument are to: (1) Improve NISVSS data quality, (2) increase our response rates, (3) decrease the breakoff rates, (4) and to reduce the burden on the respondents.

In this period of field testing, a total of 36,000 households will be screened. After determining eligibility and consent, 10,000 will complete the survey. The average burden per screened respondent remains at 3 minutes (total burden in hours equals 1,800) while the average burden per surveyed respondent is 25 minutes (total burden in hours equals 4,166). The survey will be conducted among English or Spanish speaking male and female adults (18 years and older) living in the United States. There are no costs to respondents to participate other than their time.

Estimated Annualized Burden Hours
Type of respondent | Form name | Number of responses | Number of responses per respondent | Average burden per response (in hours) | Total burden (in hours)
Households | NISVSS 2013 Test Instrument (screened) | 36,000 | 1 | 3/60 | 1,800
| NISVSS 2013 Test Instrument (surveyed) | 10,000 | 1 | 25/60 | 4,166
Total |  |  |  |  | 5,966

Dated: December 13, 2012.
Ron A. Otten,
Director, Office of Scientific Integrity (OSI), Office of the Associate Director for Science (OADS), Office of the Director, Centers for Disease Control and Prevention.

[FR Doc. 2012-30560 Filed 12-18-12; 8:45 am]

BILLING CODE 4163-18-P